DEPARTMENT OF DEFENSE

48 CFR Parts 201, 202, 208, 211, 215, 219, 222, 225, 226, 242, 252, and 253, and Appendices F and G to Chapter 2

Defense Federal Acquisition Regulation Supplement; Technical Amendments

AGENCY: Department of Defense (DoD).

ACTION: Final rule.

SUMMARY: The Director of Defense Procurement is making technical amendments to the Defense Federal Acquisition Regulation Supplement. The amendments reflect the establishment of the Defense Contract Management Agency (DCMA) and DCMA's renaming of its contract administration offices to contract management offices. In addition, the amendments update references and activity addresses and delete obsolete text.

EFFECTIVE DATE: August 31, 2000.

FOR FURTHER INFORMATION CONTACT: Ms. Michele Peterson, Defense Acquisition Regulations Council, OUSD (AT&L) DP (DAR), IMD 3D139, 3062 Defense Pentagon, Washington, DC 20301-3062. Telephone (703) 602-0311; telefax (703) 602-0350.

List of Subjects in 48 CFR Parts 201, 202, 208, 211, 215, 219, 222, 225, 226, 242, 252, and 253

Government procurement.

Michele P. Peterson,
Executive Editor, Defense Acquisition Regulations Council.

Therefore, 48 CFR Parts 201, 202, 208, 211, 215, 219, 222, 225, 226, 242, 252, and 253, and Appendices F and G to Chapter 2 are amended as follows:

1. The authority citation for 48 CFR Parts 201, 202, 208, 211, 215, 219, 222, 225, 226, 242, 252, and 253, and Appendices F and G to subchapter I continues to read as follows:

Authority: 41 U.S.C. 421 and 48 CFR Chapter 1.

PART 201—FEDERAL ACQUISITION REGULATIONS SYSTEM

201.404 [Amended]

2. Section 201.404 is amended in paragraph (b)(ii) introductory text by adding, after “Defense Commissary Agency”, the phrase “, the Defense Contract Management Agency,”.

PART 202—DEFINITIONS OF WORDS AND TERMS

3. Section 202.101 is amended as follows:

a. By adding a definition of “Contract administration office”;

b. In the definition of “Contracting activity”, under the heading “NAVY”, in the last entry, by adding a period after “U.S.”;

c. In the definition of “Contracting activity”, under the heading “DEFENSE ADVANCED RESEARCH PROJECTS AGENCY” by removing the entry “Defense Finance and Accounting Service External Services, Defense Finance and Accounting Service”, and adding in its place the following new headings and entries:

“DEFENSE CONTRACT MANAGEMENT AGENCY

Office of the Director, Defense Contract Management Agency

DEFENSE FINANCE AND ACCOUNTING SERVICE

External Services, Defense Finance and Accounting Service”;

d. In the definition of “Contracting activity”, under the heading “DEFENSE LOGISTICS AGENCY”, by removing the entry “Office of the Commander, Defense Contract Management Command”; and

e. In the definition of “Departments and agencies” in the last sentence by adding, after “Defense Commissary Agency,”, the phrase “the Defense Contract Management Agency,”. The added definition reads as follows:

202.101 Definitions.

* * * * *

Contract administration office also means a contract management office of the Defense Contract Management Agency.

PART 208—REQUIRED SOURCES OF SUPPLIES AND SERVICES

4. Section 208.7002-2 is amended as follows:

a. By revising paragraph (b)(8)(ii);

b. In paragraph (b)(9) by adding the word “and” after the semicolon;

c. In paragraph (b)(10) by removing “; and” and adding a period in its place; and

d. By removing paragraph (b)(11). The revised text reads as follows:

208.7002-2 Requiring department responsibilities.

* * * * *

(b) * * *

(8) * * *

(ii) The basis for determining the acceptability of such supplies (see FAR 11.302(b));

* * * * *

5. Section 208.7301 is amended by revising the definition of “Precious Metals Indicator code (PMIC)” to read as follows:

208.7301 Definitions.

* * * * *

Precious Metals Indicator Code (PMIC) means a single-digit, alpha-numeric code assigned to national stock numbered items in the Defense Integrated Data System Total Item Record used to indicate the presence or absence of precious metals in the item. PMICs and the content value of corresponding items are listed in DoD 4100.39-M, Federal Logistics Information System (FLIS Procedures Manual, Volume 10, Chapter 4, Table 160.

* * * * *

208.7302 [Amended]

6. Section 208.7302 is amended as follows:

a. In the second sentence by removing the abbreviation “DISC” and adding in its place “DSCP”; and

b. By removing the parenthetical “(See DoDD 4160.22, Recovery and Utilization of Precious Metals.)”.

208.7303 [Amended]

7. Section 208.7303 is amended in the first sentence of paragraph (b) as follows:

a. By removing “chapter X” and adding in its place “Chapter 11”; and

b. By removing the phrase “Utilization and Disposal” and adding in its place “Material Disposition”.

8. Section 208.7304 is revised to read as follows:

208.7304 Refined precious metals.

The following refined precious metals are currently managed by DSCP:

Precious metal | National stock number (NSN)
Gold | 9660-00-042-7733
Silver | 9660-00-106-9432
Platinum Granules | 9660-00-042-7768
Platinum Sponge | 9660-00-151-4050
Palladium Granules | 9660-00-042-7765
Palladium Sponge | 9660-01-039-0320
Rhodium | 9660-01-010-2625
Iridium | 9660-00-011-1937
Ruthenium | 9660-01-039-0313

208.7305 [Amended]

9. Section 208.7305 is amended in paragraph (b) as follows:

a. By removing “chapter X” and adding in its place “Chapter 11”; and

b. By removing the phrase “Utilization and Disposal” and adding in its place “Materiel Disposition”.

PART 211—DESCRIBING AGENCY NEEDS

211.273-2 [Amended]

10. Section 211.273-2 is amended in paragraph (b) by removing the word “Command” and adding in its place the word “Agency”.

PART 215—CONTRACTING BY NEGOTIATION

11. Section 215.404-76 is amended by revising paragraph (g) to read as follows:

215.404-76 Reporting profit and fee statistics.

* * * * *

(g) These reporting requirements have been assigned Report Control Symbol DD-AT-&L(Q) 1751.

12. Section 215.407-4 is amended as follows:

a. By revising paragraph (c)(1) and the introductory text of paragraph (c)(2)(A); and

b. In paragraph (c)(2)(C) in the third sentence by removing “DCMC/DLA led” and adding in its place “DCMA-led”. The revised text reads as follows:

215.407-4 Should-cost review.

* * * * *

(c) * * *

(1) Contact the Defense Contract Management Act (DCMA) (http:///www.dcmc.hq.dla.mil/) for questions on overhead should-cost analysis.

(2)(A) DCMA is the military department responsible for performing contact administration functions (e.g., Navy SUPSHIP) should consider, based on risk assessment, performing an overhead should-cost review of a contractor business unit (as defined FAR 31.001) when all of the following conditions exist:

PART 219—SMALL BUSINESS PROGRAMS

219.70 [Amended]

13. Section 219.708 is amended in paragraph (b)(2) by removing the word “which” and adding in its place the word “that”, and by removing the words “Small Business”.

PART 22—APPLICATION OF LABOR LAWS TO GOVERNMENT ACQUISITIONS

222.101-3-70 [Amended]

14. Section 222.101-3-70 is amended in paragraph (b) introductory text in the third sentence by removing “DD-ACQ (AR) 1153” and adding in its place “DD-AT&L (AR) 1153”.

PART 225—FOREIGN ACQUISITION

225.802-70 [Amended]

15. Section 225.802-70 is amended in paragraph (a) in the first sentence by removing the parenthetical “(as specified in DLAH 4105.5)”.

16. Section 225.870-1 is amended in paragraph (e)(2) by revising the last sentence to read as follows:

225.870-1 General.

* * * * *

(e) * * *

(2) * * * Requests for audit on non-Canadian Commercial Corporation contracts should be routed through the cognizant contract management office of the Defense Contract Management Agency.

* * * * *

17. Section 225.870-5 is amended by revising paragraph (a) to read as follows:

225.870-5 Contract administration.

(a) Assign contract administration in accordance with part 242. When contract administration is performed in Canada by the cognizant contract management office of the Defense Contract Management Agency, the paying office to be named in the contract for disbursement of DoD funds (DoD Department Code: 17-Navy; 21-Army; 57-Air Force; 97-all other DoD components), whether payment is in Canadian or U.S. dollars, shall be: DFAS-Columbus Center, DFAS-CO/New Dominion Division, PO Box 182041, Columbus, OH 43218-2041.

* * * * *

225.902 [Amended]

18. Section 225.902 is amended as follows:

a. In paragraph (2)(i)(D) introductory text by removing “DCMC” and adding in its place “DCM”, and by adding after “New York Avenue,” the phase “Building 120,” and

b. In paragraph (2)(i)(E), and in paragraph (2)(ii) in the first and last sentences, by removing “DCMC” and adding in its place “DCM”.

225.7002-2 [Amended]

19. Section 225.7002-2 is amended in paragraph (d) by removing “FAR section 25.108(d)(1)” and adding in its place “FAR 25.104(a)”.

20. Section 225.7019-2 amended by revising paragraph (b) to read as follows:

225.7019-2 Exceptions.

* * * * *

(b) The restrictions in 225.7019-1(b) does not apply to contracts for acquisition of commercial items or subcontracts for acquisition of commercial items or commercial components (see 212.503(a)(xi) and 212.504(a)(xxv)).

PART 226—OTHER SOCIOECONOMIC PROGRAMS

226.104 [Amended]

21. Section 226.104 is amended as follows:

a. By removing the introductory text “Use the following prescription instead of the prescription at FAR 26.10(a):” and

b. By removing the paragraph (a) designation.

PART 242—CONTRACT ADMINISTRATION AND AUDIT SERVICES

242.002 [Amended]

22. Section 242.002 is amended in paragraph (S-70)(iii) introductory text in the first sentence by removing “Defense Contract Management Command (DCMC), New York, NY” and adding in its place “Headquarters, Defense Contract Management Agency, International and Federal Team”.

242.202 [Amended]

23. Section 242.202 is amended as follows:

a. In paragraph (a)(ii) in the last sentence by removing “Command (DCMC)” and adding in its place “Agency (DCMA)”; and

b. In paragraph (a)(iii) in the first and last sentences by removing “DCMC” and adding in its place “DCMA”.

242.302 [Amended]

24. Section 242.302 is amended as follows:

a. In paragraph (a)(13)(A) by removing “Command (DCMC)” and adding in its place “Agency (DCMA)”;

b. In paragraph (a)(13)(B) introductory text and the first sentence of paragraph (a)(13)(C) by removing “DMC” and adding in its place “DCMA”; and

c. In paragraph (a)(41) by removing “The Defense Contract Management Command (DCMC)” and adding in its place “DCMA”.

242.771-3 [Amended]

25. Section 242.771-3 is amended in paragraph (b) by removing the phrase “Command of the Defense Logistics”.

242.7301 [Amended]

26. Section 242.7301 is amended as follows:

a. In paragraph (a) introductory text in the last sentence by removing “Defense Logistics Agency (DLA)” and adding in its place “Defense Contract Management Agency (DCMA)”; and

b. In paragraphs (a)(2) and (b) by removing “DLA” and adding in its place “DCMA”.

242.7302 [Amended]

27. Section 242.7302 is amended in paragraph (a)(1)(ii) by removing “DLA” and adding in its place “DCMA”.

242.7303 [Amended]

28. Section 242.7303 is amended in paragraphs (a)(2) and (a)(3) and the introductory text of paragraph (b) by removing “DLA” and adding in its place “DCMA”.

PART 252—SOLICITATION PROVISIONS AND CONTRACT CLAUSES

29. Section 252.211-7005 is amended as follows:

a. By revising the clause date to read “(AUG 2000)”;

b. In paragraph (a) in the last sentence by removing the word “Command” and adding in its place the word “Agency”; and

c. In paragraph (b) by revising the last sentence to read as follows:

252.211-7005 Substitutions for Military or Federal Specifications and Standards.

* * * * *

(b) * * * A listing of SPI processes accepted at specific facilities is available via the Internet in PDF format at http://www.dcmc.hq.dla.mil/dcmc_o/oc/spi/files/dbreport/files/modified.pdf and in Excel format at http://www.dcmc.hq.dla.mil/dcmc_o/oc/spi/files/dbreport/files/modified.xls.

* * * * *

252.225-7009 [Amended]

30. Section 252.225-7009 is amended as follows:

a. By revising the clause date to read “(AUG 2000)”;

b. In paragraph (f)(2)(iv)(A) in the last sentence by removing “Command (DCMC)” and adding in its place “(DCMC)”, and by adding after “New York Avenue,” the phrase “Building 120,”;

c. In paragraph (f)(2)(iv)(B) by removing “Defense Contract Management Command (DCMC)” and adding in its place “DCM”;

d. In paragraph (f)(2)(vii) by removing “DCMC” and adding in its place “DCM”; and

e. In paragraph (g)(1) in the second sentence by removing “DCMC NY” and adding in its place “DCM New York”.

252.225-7010 [Amended]

31. Section 252.225-7010 is amended as follows:

a. By revising the clause date to read “(AUG 2000)”;

b. In paragraph (e) introductory text in the first sentence by removing “Command (DCMC)” and adding in its place “(DCM)”, and by adding after “New York Avenue,” the phrase “Building 120,”; and

c. In paragraph (e)(3) and the second sentence of paragraph (f) by removing “DCMC” and adding in its place “DCM”.

252.225-7012 [Amended]

32. Section 252.225-7012 is amended as follows:

a. By revising the clause date to read “(AUG 2000)”; and

b. In paragraph (b)(1) by removing “FAR section 25.108(d)(1)” and adding in its place “FAR 25.104(a)”.

252.225-7037 [Amended]

33. Section 252.225-7037 is amended as follows:

a. By revising the clause date to read “(AUG 2000)”;

b. In paragraph (f)(2)(iv)(A) in the last sentence by removing “Command (DCMC)” and adding in its place “(DCM)”, and by adding after “New York Avenue,” the phrase “Building 120.”;

c. In paragraph (f)(2)(iv)(B) in the first sentence by removing “DCMC, NY” and adding in its place “DCM New York”;

d. In paragraph (f)(2)(iv)(B) in the last sentence by removing “CDMC, NY” and adding in its place “DCM New York”, and by adding an end parenthesis after the period;

e. In paragraph (f)(2)(vii) by removing “DCMC” and adding in its place “DCM;” and

f. In paragraph (g)(1) in the second sentence by removing “DCMC NY” and adding in its place “DCM New York”.

PART 253—FORMS

34. Section 253.208-1 is amended as follows:

a. By revising paragraph (c)(6)(i)(A); and

b. In paragraph (e) in the first sentence by removing the word “Command” and adding in its place the word “Agency”. The revised text reads as follows:

252.208-1 DD Form 448, Military Interdepartmental Purchase Request.

* * * * *

(c) * * *

(6) ***

(i) * * *

(A) The resulting contract is not to be paid by the Defense Finance and Accounting Service; and

* * * * *

253.213-70 [Amended]

35. Section 253.213-70 is amended in paragraph (e), under the heading “BLOCK 19 Schedule of Supplies/Services—”, in the last sentence of the introductory text, by removing “DCMC” and adding in its place “the Defense Contract Management Agency”.

36. The note at the end of Part 253 is amended as follows:

a. By removing the entry “253.303-1348-1” and adding in its place the following two new entries:

“253.303-1348-1A—Issue Release/Receipt Document.

253.303-1348-2—Issue Release/Receipt Document with Address Label.”; and

b. By removing the entry “253.303-1651”.

Appendix F—Material Inspection and Receiving Report

F-301 [Amended]

37. Appendix F to Chapter 2 is amended in Part 3, Section F-301, as follows:

a. In paragraph (b)(2)(ii) by removing the parenthetical “(Block 16(d)(6))” and adding in its place “(see paragraph (b)(16)(iv)(F) of this section)”;

b. In paragraph (b)(16)(iii) introductory text by removing “Defense Contract Management Command” and adding in its place “the Defense Contract Management Agency”;

c. In paragraph (b)(21)(ii) by removing “Command (DCMC)” and adding in its place “Agency (DCMA)”; and

d. In paragraph (b)(21)(iii) in the second sentence and in paragraphs (b)(21)(iv)(B)(2), (b)(21)(iv)(B)(3), (b)(21)(iv)(D)(1), and (b)(21)(iv)(D)(2), by removing “DCMC” and adding in its place “DMCA”.

F-401 [Amended]

38. Appendix F to Chapter 2 is amended in Part 4, Section F-401, under the heading “Material Inspection and Receiving Report Table 1—Standard Distribution”, as follows:

a. In the parenthetical beneath the entry “Contract Administration Office”, by removing “DCMD, DCMAO, or a DPRO” and adding in its place “Defense Contract Management Agency (DCMA) office”; and

b. In the parenthetical beneath the entry “Payment Office”, in paragraph (i), by removing “DCMD or DCMAO” and adding in its place “DCMA office”.

Appendix G—Activity Address Numbers

39. Appendix G to Chapter 2 is amended in Part 4 as follows:

a. By removing the entries “M60050” and “M67438”;

b. By revising the entry “M67400”; and

c. By adding, in alpha-numerical order, a new entry “M67865”. The revised and added text reads as follows:

Part 4—Marine Corps Activity Address Numbers

* * * * *

M67400-QJ

Marine Corps Regional Contracting Office (Far East), Marine Corps Base Camp Smedley D. Butler, PSC 577, Box 2000, FPO AP, NA 96379-2000

* * * * *

M67865—J9

Contracting Office, MCAS Miramar (Code 5KB), PO Box 452007, San Diego, CA 92145-2007

* * * * *

40. Appendix G to Chapter 2 is amended in Part 5 as follows:

a. In the entry “F61521” by removing “UH, UJ” and adding in its place “UH”; and

b. By adding, in alpha-numerical order, a new entry “F63197” to read as follows:

Part 5—Air Force Activity Address Numbers

* * * * *

F63197—UJ

731 MUNSS/LGC, Unit 7230, Box 49, Araxos AB APO AE 09843-0049

* * * * *

[FR Doc. 00-22094 Filed 8-30-00; 8:45 am]

BILLING CODE 5000-04-M